DEPARTMENT OF HEALTH AND HUMAN SERVICES

Centers for Disease Control and Prevention

Disease, Disability, and Injury Prevention and Control Special Emphasis Panel (SEP): Initial Review

Notice of Cancellation: This notice concerns “Capacity Assistance for High Impact HIV Prevention”, Funding Opportunity Announcement PS14-1403, initial review, published in the Federal Register on September 18, 2013 (FR Volume 78, Number 181, Page 57391). This SEP, scheduled to convene on November 12-15, 2013, is canceled.

Notice will be provided if the meeting is rescheduled in accordance with section 10(a)(2) of the Federal Advisory Committee Act (Pub. L. 92-463).

This notice is published less than the required 15 days prior to the start of the announced meeting, in accordance with Section 102-3.150(b) of the GSA Final Rule (2001) that allows for exceptions to the meeting notification time requirement. Section 102-3.150(b) states the following: “In exceptional circumstances, the agency or an independent Presidential advisory committee may give less than 15 calendar days' notice, provided that the reasons for doing so are included in the advisory committee meeting notice published in the Federal Register.”

In this case, the agency is giving less than 15 days' notice due to the recent furlough status of United States Federal Government, including the U.S. Department of Health and Human Services, Centers for Disease Control and Prevention, from October 1-16, 2013.

Contact Person for More Information: Harriette A. Lynch, Public Health Analyst, CDC, 1600 Clifton Road NE., Mailstop E07, Atlanta, Georgia 30333, Telephone: (404) 718-8837. The Director, Management Analysis and Services Office, has been delegated the authority to sign Federal Register notices pertaining to announcements of meetings and other committee management activities, for both the Centers for Disease Control and Prevention and the Agency for Toxic Substances and Disease Registry.

Catherine Ramadei,
Acting Director, Management Analysis and Services Office, Centers for Disease Control and Prevention.

[FR Doc. 2013-26651 Filed 11-6-13; 8:45 am]

BILLING CODE 4163-18-P\